DEPARTMENT OF TRANSPORTATION

National Highway Traffic Safety Administration

[Docket No. NHTSA-2003-16401]

Notice of Receipt of Petition for Decision That Nonconforming 2002-2004 Smart Car Passion, Pulse, and Pure (Coupe and Cabriolet) Passenger Cars Are Eligible for Importation

AGENCY: National Highway Traffic Safety Administration, DOT.

ACTION: Notice of receipt of petition for decision that nonconforming 2002-2004 Smart Car Passion, Pulse, and Pure (coupe and cabriolet) passenger cars are eligible for importation.

SUMMARY: This document announces receipt by the National Highway Traffic Safety Administration (NHTSA) of a petition for a decision that 2002-2004 Smart Car Passion, Pulse, and Pure (coupe and cabriolet) passenger cars that were not originally manufactured to comply with all applicable Federal motor vehicle safety standards are eligible for importation into the United States because they have safety features that comply with, or are capable of being altered to comply with, all such standards.

DATE: The closing date for comments on the petition is December 3, 2003.

ADDRESS: Comments should refer to the docket number and notice number, and be submitted to: Docket Management, Room PL-401, 400 Seventh St., SW., Washington, DC 20590 (docket hours are from 9 a.m. to 5 p.m.). Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards. Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether nonconforming 2002-2004 Smart Car Passion, Pulse, and Pure (coupe and cabriolet) passenger cars are eligible for importation into the United States. Another registered importer, J.K. Technologies, LLC of Baltimore, Maryland (“J.K.”) (Registered Importer 90-006), previously petitioned NHTSA to decide whether 2003-2004 Micro Car Company Smart Passion (glass top and convertible) passenger cars are eligible for importation. NHTSA published notice of J.K.’s petition on June 20, 2003 at 68 FR 37040. The comment period on that petition has closed and the agency is in the process of deciding whether to grant the petition. If the agency grants J.K.’s petition, there will be no need for it to take action on G&K's petition insofar as it seeks import eligibility for 2003-2004 Smart Car Passion (coupe and cabriolet) passenger cars, as those are the same vehicles as the ones covered by J.K.’s petition. If the agency decides to deny J.K.’s petition, it will again determine whether those vehicles are eligible for importation in its consideration of G&K's petition. As part of that consideration, the agency will also address, for the first time, the import eligibility of 2002 Passion, Pulse, and Pure model Smart Cars, and 2003-2004 Pulse and Pure model Smart Cars, since those vehicles were not included in J.K.’s petition.

G&K contends that nonconforming 2002-2004 Smart Car Passion, Pulse, and Pure (coupe and cabriolet) passenger cars are eligible for importation under 49 U.S.C. 30141(a)(1)(B) because they have safety features that comply with, or are capable of being altered to comply with, all applicable Federal motor vehicle safety standards.

Specifically, the petitioner claims that 2002-2004 Smart Car Passion, Pulse, and Pure (coupe and cabriolet) passenger cars have safety features that comply with Standard Nos. 103 Defrosting and Defogging Systems (based on testing for which G&K is claiming confidentiality), 104 Windshield Wiping and Washing Systems (based on testing for which G&K is claiming confidentiality), 106 Brake Hoses (based on the equipment manufacturer's certification), 109 New Pneumatic Tires (based on the presence of required certification markings), 116 Brake Fluid (based on the presence of required markings), 118 Power Window Systems (based on observation of the system's operation), 124 Accelerator Control Systems (based on observation of the system's operation), 202 Head Restraints (based on testing for which G&K is claiming confidentiality), 205 Glazing Materials (based on the presence of required certification markings), 207 Seating Systems (based on testing for which G&K is claiming confidentiality), 210 Seat Belt Assembly Anchorages (based on testing for which G&K is claiming confidentiality), 212 Windshield Retention (based on testing for which G&K is claiming confidentiality), and 219 Windshield Zone Intrusion (based on testing for which G&K is claiming confidentiality).

Petitioner further contends that the vehicles are capable of being altered to meet the following standards, in the manner indicated:

Standard No. 101 Controls and Displays: (a) Inscription of the word “Brake” and a seat belt warning symbol on the dash; (b) modification of the speedometer to read in miles per hour. The petitioner states that the controls and displays are visible and accessible to the driver while restrained by a lap and shoulder belt, that controls for the headlamps, the windshield defrosting and defogging system, and the windshield wiping system and panel are all identified, and that all required controls are illuminated.

Standard No. 102 Transmission Shift Lever Sequence: Modification of the shift lever markings, the shift pattern, the starter interlock, and the automatic transmission braking effect to achieve compliance with this standard. The petition does not describe these modifications. G&K is claiming confidentiality with respect to these modifications.

Standard No. 108 Lamps, Reflective Devices and Associated Equipment: (a) Modification of the headlamp to meet the standard; (b) installation of side markers. The petition does not describe these modifications. G&K is claiming confidentiality with respect to these modifications and the testing conducted to demonstrate that the vehicles would meet this standard with these modifications performed.

Standard No. 110 Tire Selection and Rims: Installation of a tire information placard.

Standard No. 111 Rearview Mirror: Inscription of the required warning statement on the face of the passenger side rearview mirror.

Standard No. 114 Theft Protection: Modification of the key locking system to meet this standard. The petition does not describe these modifications. G&K is claiming confidentiality with respect to these modifications.

Standard No. 135 Passenger Car Brake Systems: Modification of the hydraulic brake system and the parking brake system through the installation of components available only from G&K. The petition does not describe these modifications. G&K is claiming confidentiality with respect to these modifications and the testing conducted to demonstrate that the vehicles would meet this standard with these modifications performed.

Standard No. 201 Occupant Protection in Interior Impact: Replacement of interior components with components fabricated by, and available only through, G&K. The petition does not describe these components or their manner of installation. G&K is claiming confidentiality with respect to these modifications and the testing conducted to demonstrate that the vehicles would meet this standard with these modifications performed.

Standard No. 204 Steering Control Displacement: Modification of the vehicles to meet the standard. The petition does not describe these modifications. G&K is claiming confidentiality with respect to these modifications and the testing conducted to demonstrate that the vehicles would meet this standard with these modifications performed.

Standard No. 206 Door Locks and Door Retention Components: Modification of the door locks and door retention components to meet the standard. The petition does not describe these modifications. G&K is claiming confidentiality with respect to these modifications and the testing conducted to demonstrate that the vehicle would meet this standard with these modifications performed.

Standard No. 208 Occupant Crash Protection: Modification of the vehicles to meet this standard. The petition does not describe these modifications. G&K is claiming confidentiality with respect to these modifications and the testing conducted to demonstrate that the vehicles would meet this standard with these modifications performed.

Standard No. 209 Seat Belt Assemblies: Modification of the seat belt systems to meet this standard. The petition does not describe these modifications. G&K is claiming confidentiality with respect to these modifications.

Standard No. 214 Side Impact Protection: Modification of the vehicles through the installation of components available only from G&K. The petition does not describe these modifications. G&K is claiming confidentiality with respect to these modifications and the static and dynamic testing conducted to demonstrate that the vehicles would meet this standard with these modifications performed.

Standard No. 216 Roof Crush Resistance: Modification of the vehicles to meet this standard. The petition does not describe these modifications. G&K is claiming confidentiality with respect to these modifications and the testing conducted to demonstrate that the vehicles would meet this standard with these modifications performed.

Standard No. 225 Child Restraint Anchorage Systems: Installation of a U.S.-model tether anchorage behind the passenger seat on coupe models.

Standard No. 301 Fuel System Integrity: Modification of the vehicles' fuel system through the installation of components available only from G&K. The petition does not describe these modifications. G&K is claiming confidentiality with respect to these modifications and the testing conducted to demonstrate that the vehicles would meet this standard with these modifications performed.

Standard No. 302 Flammability of Interior Materials: Treatment of interior materials and components covered by the standard with material available only from G&K. G&K is claiming confidentiality with respect to these modifications and the testing conducted to demonstrate that the vehicles would meet this standard with these modifications performed.

The petitioner states that a vehicle identification number plate must be affixed to the vehicles near the left windshield post and a reference and certification label must be affixed in the area of the left front door post to meet the requirements of 49 CFR part 565. The petitioner further states that a certification label must be affixed to the driver's door jamb to meet the requirements of 49 CFR part 567.

Additionally, the petitioner states that 2002-2004 Smart Car Passion, Pulse, and Pure (coupe and cabriolet) passenger cars must be modified through the installation of components available only from G&K to comply with the Bumper Standard found in 49 CFR part 581. The petition does not describe these modifications. G&K is claiming confidentiality with respect to these modifications and the testing conducted to demonstrate that the vehicles would meet this standard with these modifications performed.

Interested persons are invited to submit comments on the petition described above. Comments should refer to the docket number and be submitted to: Docket Management, Room PL-401, 400 Seventh St., SW., Washington, DC 20590 (docket hours are from 9 a.m. to 5 p.m.). It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on: October 28, 2003.
Kenneth N. Weinstein,
Associate Administrator for Enforcement.

[FR Doc. 03-27504 Filed 10-31-03; 8:45 am]

BILLING CODE 4910-59-P